DEPARTMENT OF COMMERCE

National Oceanic and Atmospheric Administration

[I.D. 111803C]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Texas Habitat Protection Advisory Panel (AP).

DATES: The AP meeting is scheduled to begin at 9 a.m. on December 9, 2003 and will conclude by 4 p.m.

ADDRESSES: The meeting will be held at the Hobby Airport Hilton, 8181 Airport Boulevard, Houston, TX 77061; telephone: 713-645-3000.

Council address: Gulf of Mexico Fishery Management Council, 3018 U.S. Highway 301 North, Suite 1000, Tampa, FL 33619.

FOR FURTHER INFORMATION CONTACT: Dr. Richard Leard, Senior Fishery Biologist, Gulf of Mexico Fishery Management Council; telephone: 813-228-2815.

SUPPLEMENTARY INFORMATION: At this meeting, the Texas Habitat Protection AP will tentatively discuss the U.S. Fish and Wildlife Service (USFWS) Bahia Grande restoration project, the Sabine-Neches waterway deepening project, the mouth of the Colorado River project, the possible reopening of Parker's Cut, current freshwater inflow issues in Texas, beneficial uses of dredged material in Galveston Bay, and information on the Harte Research Institute.

Although other issues not on the agenda may come before the panel for discussion, in accordance with the Magnuson-Stevens Fishery Conservation and Management Act, those issues may not be the subject of formal panel action during this meeting. Panel action will be restricted to those issues specifically identified in the agenda listed as available by this notice.

The AP is composed of persons from recreational and commercial fishing groups, conservation organizations, academia, and state and federal resource agencies.

The Texas Habitat Protection AP's principal role is to assist the Council in attempting to maintain optimum conditions within the habitat and ecosystems supporting the marine resources of the Gulf of Mexico. The Texas Habitat Protection AP serves as a first alert system to call to the Council's attention proposed projects being developed and other activities that may adversely impact the Gulf marine fisheries and their supporting ecosystems. The AP may also provide advice to the Council on its policies and procedures for addressing environmental affairs.

Copies of the agenda can be obtained by calling 813-228-2815.

Special Accommodations

This meeting is physically accessible to people with disabilities. Requests for sign language interpretation or other auxiliary aids should be directed to Anne Alford at the Council (see ADDRESSES) by December 2, 2003.

Dated: November 19, 2003.
Richard W. Surdi,
Acting Director, Office of Sustainable Fisheries, National Marine Fisheries Service.

[FR Doc. E3-00368 Filed 11-21-03; 8:45 am]

BILLING CODE 6717-01-P